DEPARTMENT OF THE INTERIOR

National Park Service

Notice of Inventory Completion for Native American Human Remains and Associated Funerary Objects in the Possession of the Office of the State Archaeologist, University of Iowa, Iowa City, IA

AGENCY: National Park Service, Interior.

ACTION: Notice.

Notice is hereby given in accordance with provisions of the Native American Graves Protection and Repatriation Act (NAGPRA), 43 CFR 10.9, of the completion of an inventory of human remains and associated funerary objects in the possession of the Office of the State Archaeologist, University of Iowa, Iowa City, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of the State Archaeologist, University of Iowa, professional staff in consultation with representatives of the the Iowa Tribe of Kansas and Nebraska; the Iowa Tribe of Oklahoma; the Sac and Fox Tribe of the Mississippi in Iowa; the Sac and Fox Nation of Missouri in Kansas and Nebraska; the Sac and Fox Nation of Oklahoma; the Ho-Chunk Nation of Wisconsin; the Omaha Tribe of Nebraska; the Santee Sioux Tribe of the Santee Reservation of Nebraska; the Sisseton-Wahpeton Sioux Tribe of the Lake Traverse Reservation, South Dakota; the Yankton Sioux Tribe of South Dakota; the Winnebago Tribe of Nebraska; the Otoe-Missouria Tribe of Indians, Oklahoma; the Ponca Tribe of Nebraska; the Ponca Tribe of Indians of Oklahoma; the Three Affiliated Tribes of the Fort Berthold Reservation, North Dakota; the Pawnee Nation of Oklahoma; the Lower Sioux Indian Community of Minnesota Mdewakanton Sioux Indians of the Lower Sioux; the Flandreau Santee Sioux Tribe of South Dakota; the Prairie Band Potawatomi Indians, Kansas; the Citizen Potawatomi Nation, Oklahoma; and the non-Federally recognized Mendota Mdewakanton Dakota Community.

The Office of the State Archaeologist, University of Iowa, administers the provisions in the Code of Iowa that provide for any human remains over 150 years old to be reburied in a State cemetery. The Office of the State Archaeologist, University of Iowa, has in its possession the human remains of a minimum of 339 Native American individuals from Iowa whose cultural affiliation is unknown. These remains are considered “culturally unidentifiable” under NAGPRA, 43 CFR 10.10 (g). Federal regulations currently preclude disposition of culturally unidentifiable human remains absent an overriding legal requirement or a recommendation from the Secretary of the Interior, 43 CFR 10.9 (e) (6). In October 1997, the Iowa Office of the State Archaeologist, University of Iowa, and the Office of the State Archaeologist Indian Advisory Committee, a group composed of representatives of Native American tribes in and from Iowa, requested permission to rebury 339 “unidentified” human remains in the possession of the Office of the State Archaeologist, University of Iowa, in accordance with Iowa law. The request was supported by the Iowa Tribe of Kansas and Nebraska, the Iowa Tribe of Oklahoma, the Sac and Fox Nation of Missouri in Kansas and Nebraska, and the Sac and Fox Nation of Oklahoma.

The request was considered by the Native American Graves Protection and Repatriation Review Committee at its January 1998 meeting. The review committee recommended that the Office of the State Archaeologist, University of Iowa, rebury the culturally unidentifiable human remains in accordance with Iowa law following consultation with those Federally-recognized tribes and a group seeking Federal recognition that presently or formerly lived in Iowa. On March 3, 1999, the Departmental Consulting Archeologist, writing on behalf of the Secretary of the Interior, concurred with the review committee's recommendation regarding the disposition of the 339 culturally unidentifiable human remains according to provisions of the Code of Iowa 263B. Very limited and fragmentary remains of three individuals who were originally listed in the Office of the State Archaeologist, University of Iowa, inventory of human remains and associated funerary objects could not be determined to be Native American, and they will be reburied under the provisions of Iowa law.

Disposition of funerary objects associated with culturally unidentifiable human remains is neither governed by the Native American Graves Protection and Repatriation Act nor addressed by Code of Iowa 263B, and no associated funerary objects are included in this notice.

At an unknown date, human remains representing four individuals were recovered from an unknown location in Allamakee County, IA, by an unknown collector. At an unknown date, the human remains were donated to the State Historical Society of Iowa. In 1989, the human remains were transferred to the Office of the State Archaeologist from the State Historical Society of Iowa. No known individuals were identified. These remains have been identified as Native American based on osteological examination and the condition of the bones. These human remains cannot be dated or identified with an archeological context, and cannot be affiliated with any present-day Indian tribe or group.

Around 1929, human remains representing a minimum of 10 individuals were collected by Paul Cota, a local collector from the Decorah, IA, area at an unknown location on a bluff top south of Harpers Ferry, Allamakee County, IA. At an unknown date, the human remains were donated to Luther College, Decorah, IA. In 1990, the human remains were transferred to the Office of the State Archaeologist. No known individuals were identified. These remains have been identified as Native American based on osteological examination, the condition of the bones, probable association with Native American artifacts, and geographic location. These human remains cannot be dated or identified with an archeological context, and cannot be affiliated with any present-day Indian tribe or group.

In the 1940's and 1950's, human remains representing a minimum of seven individuals were recovered from unknown sites in Allamakee County and possibly other northeastern Iowa counties during surface collections or excavations conducted by Henry P. Field and unknown collectors. At unknown dates, Mr. Field and unknown individuals donated the human remains to Luther College, Decorah, IA. In 1987, the human remains were transferred to the Office of the State Archaeologist. No known individuals were identified. These remains have been identified as Native American based on osteological examination and the condition of the bones. These human remains cannot be dated or identified with an archeological context, and cannot be affiliated with any present-day Indian tribe or group.

At an unknown date, a human tooth representing one individual was recovered from site 13AM243, Allamakee County, IA, by Gavin Sampson, a collector from northeastern Iowa. At an unknown date, the tooth was donated to Luther College, Decorah, IA. In 1995, the tooth was transferred to the Office of the State Archaeologist. No known individual was identified. These remains have been identified as Native American based on the documented association with an ancient Native American site. Site 13AM243 has been identified as a Late Woodland (A.D. 300-1000) site, a broad archeological tradition that cannot be identified with any present-day Indian tribe or group.

In 1990, human remains representing one individual were recovered from an eroding site, 13AM310, Allamakee County, IA, by a local resident. The remains were given to an Iowa Department of Natural Resources game warden and transferred to the Office of the State Archaeologist. No known individual was identified. These remains have been identified as Native American-Euro-American based on the osteological examination. Site 13AM310 has no archeological classification, and the human remains cannot be affiliated with any present-day Indian tribe or group.

At an unknown date, human remains representing one individual were collected from an unknown site northwest of Waterloo, Black Hawk County, IA, by an unknown individual. In 1897, the human remains were donated to the University Museum, University of Northern Iowa, Cedar Falls, IA, by J.C. Hartman, a local collector. In 1993, the human remains were transferred to the Office of the State Archaeologist. No known individual was identified. These remains have been identified as Native American based on the probable association with an ancient Native American site and osteological examination. These human remains cannot be dated or identified with an archeological context, and cannot be affiliated with any present-day Indian tribe or group.

In 1908, human remains representing eight individuals were recovered from 13BN29, Boone County, IA, during excavations conducted by Thompson Van Hyning, under the auspices of the Historical Department of Iowa, now the State Historical Society of Iowa. In 1985, the human remains in the possession of the State Historical Society of Iowa were transferred to the Office of the State Archaeologist. In 1987, additional human remains from the 1908 excavation were transferred to the Office of the State Archaeologist from the Boone, IA, city library. No information was available as to how or when the library acquired the human remains. No known individuals were identified. These remains have been identified as Native American based on the documented association with an ancient Native American site. Site 13BN29 has been identified as a Middle Woodland (100 B.C.-A.D. 300) site, a broad archeological tradition that cannot be identified with any present-day Indian tribe or group.

At an unknown date, human remains representing one individual were collected from either site 13BN29 or site 13BN30, Boone County, IA, by Robert Breckenridge, professor of metallurgy, Iowa State University, Ames, IA. At an unknown date, the remains were donated to the Iowa State University Archaeological Laboratory, Ames, IA. In 1990, the Iowa State University Archaeological Laboratory transferred the remains to the Office of the State Archaeologist. No known individuals were identified. These remains have been identified as Native American based on the documented association with an ancient Native American site. Sites 13BN29 and 13BN30 have been identified as Middle Woodland (100 B.C.-A.D. 300) sites, a broad archeological tradition that cannot be identified with any present-day Indian tribe or group.

In 1967, human remains representing one individual were recovered from site 13CD10, Cedar County, IA, during archeological excavations conducted by the University of Iowa Department of Anthropology. No known individual was identified. These remains have been identified as Native American based on the documented association with an ancient Native American site. Site 13CD10 has been identified as a Woodland (800 B.C.-A.D. 1000) site, a broad archeological tradition that cannot be identified with any present-day Indian tribe or group.

Around 1991, human remains representing one individual were recovered from a rock garden near Mason City, Cerro Gordo County, IA, by an unnamed person. In 1992, the human remains were turned into the Iowa Department of Criminal Investigation, and transferred to the Office of the State Archaeologist in 1993 following investigation by the Iowa Department of Criminal Investigation. No known individual was identified. These remains have been identified as Native American based on osteological examination and the condition of the bones. These human remains cannot be dated or identified with an archeological context, and cannot be affiliated with any present-day Indian tribe or group.

In 1964, human remains representing 18 individuals were recovered from 2 mounds at site 13CT1, Clayton County, IA, during excavations conducted by University of Iowa Department of Anthropology. No known individuals were identified. These remains have been identified as Native American based on the documented association with an ancient Native American site. Site 13CT1 contains mounds that have been identified as Late Archaic (2500-800 B.C.)/Early Woodland (800-100 B.C.) through Late Woodland (A.D. 300-1000). The human remains were recovered from mounds identified as Late Archaic/Early Woodland, a broad archeological tradition that cannot be identified with any present-day Indian tribe or group.

In 1979, human remains representing a minimum of one individual were recovered from site 13CT34, Clayton County, IA, during archeological excavations conducted by Office of the State Archaeologist personnel. Most of the human remains at this site were previously reburied, but some fragmentary remains were identified among the Office of the State Archaeologist collections. No known individual was identified. These remains have been identified as Native American based on the documented association with an ancient Native American site. Site 13CT34 has been identified as a Woodland (800 B.C.-A.D. 1000) site, a broad archeological tradition that cannot be identified with any present-day Indian tribe or group.

In 1979, human remains representing a minimum of three individuals were recovered from site 13CT36, Clayton County, IA, during archeological excavations conducted by Office of the State Archaeologist personnel. Most of the human remains at this site were previously reburied, but some fragmentary remains were identified among the Office of the State Archaeologist collections. No known individuals were identified. These remains have been identified as Native American based on the documented association with an ancient Native American site. Site 13CT36 has been identified as a Woodland (800 B.C.-A.D. 1000) site, a broad archeological tradition that cannot be identified with any present-day Indian tribe or group.

In 1993, human remains representing two individuals were recovered from site 13CY26, Clay County, IA, by Steve Swan and his family during an amateur excavation and were turned over to the Office of the State Archaeologist. No known individuals were identified. These remains have been identified as Native American based on the documented association with an ancient Native American site. Site 13CY26 has been identified as having multiple occupation components dating to the Woodland (800 B.C.-A.D. 1000) and Mill Creek (A.D. 1000-1200) periods, but these human remains cannot be dated or identified with an archeological context, and cannot be affiliated with any present-day Indian tribe or group.

In 1967, human remains representing a minimum of four individuals were recovered from site 13DA64, Dallas County, IA, by the landowners, the DeCamps, during an uncontrolled excavation, and were turned over to the Iowa State University Archaeological Laboratory, Ames, IA. In 1994, the Iowa State University Archaeological Laboratory transferred the human remains to the Office of the State Archaeologist. No known individuals were identified. These remains have been identified as Native American based on the documented association with an ancient Native American site. Site 13DA64 has been identified as a Great Oasis (A.D. 900-1100) site, an archeological culture that cannot be identified with any present-day Indian tribe or group.

At an unknown date, human remains representing one individual were recovered from an unknown mound near Spirit Lake, Dickinson County, IA, by Nestor Stiles, a local collector. At an unknown date, Mr. Stiles donated the human remains to the Sanford Museum, Cherokee, IA. In 1993, the human remains were transferred to the Office of the State Archaeologist. No known individual was identified. These remains have been identified as Native American based on the documented association with an ancient Native American site. These human remains cannot be dated or identified with an archeological context, and cannot be affiliated with any present-day Indian tribe or group.

In 1994, human remains representing one individual were recovered at the edge of Mount Calvary cemetery in Dubuque, Dubuque County, IA, by the Dubuque Police Department after receiving a report from a local citizen. The police department transferred the human remains to the Office of the State Archaeologist. No known individual was identified. These remains have been identified as Native American based on osteological examination and the condition of the bones. These human remains cannot be dated or identified with an archeological context, and cannot be affiliated with any present-day Indian tribe or group.

At an unknown date, human remains representing three individuals were recovered from locations identified only as “various sections of Des Moines County,” IA, by an unknown person. At an unknown date, Charles Buettner, a local collector who lived in Burlington, IA, from 1869 to 1920, transferred the human remains to a local high school. The school later donated the human remains to the Des Moines County Historical Museum, Burlington, IA, which transferred the human remains to the Office of the State Archaeologist in 1994. No known individuals were identified. These remains have been identified as Native American based on osteological examination and the condition and apparent age of the bones. These human remains cannot be dated or identified with an archeological context, and cannot be affiliated with any present-day Indian tribe or group.

In 1970, human remains representing two individuals were recovered from site 13DM31, Des Moines County, IA, after burials were exposed during plowing and partial excavation. The human remains were reburied, although some loose teeth from the burials were incorporated into the collections of the State Historical Society of Iowa. In 1988, the teeth were transferred to the Office of the State Archaeologist. No known individuals were identified. These remains have been identified as Native American based on the documented association with an ancient Native American site. Site 13DM31 has been identified as a Woodland (800 B.C.-A.D. 1000) site, a broad archeological tradition that cannot be identified with any present-day Indian tribe or group.

At an unknown date, human remains representing a minimum of five individuals were recovered from an unknown site, possibly in Floyd County, IA, by an unknown individual. At an unknown date, the human remains were donated to the Floyd County Museum, Floyd County, IA, by an unknown collector. In 1994, the human remains were transferred to the Office of the State Archaeologist. No known individuals were identified. These remains have been identified as Native American based on the condition of the bones and apparent age. These human remains cannot be dated or identified with an archeological context, and cannot be affiliated with any present-day Indian tribe or group.

At an unknown date, human remains representing one individual were recovered from an unknown site in Fremont County, IA, by an unknown individual and donated to the Mills County Museum, Glenwood, IA. In 1994, the human remains were transferred to the Office of the State Archaeologist. No known individual was identified. These remains have been identified as Native American based on the probable association with Native American artifacts and osteological examination. These human remains cannot be dated or identified with an archeological context, and cannot be affiliated with any present-day Indian tribe or group.

In the 1960's, human remains representing one individual were accidentally exposed during construction and recovered from site 13FM63, in Waubonsie State Park, Fremont County, IA, by Larry Moffit, a park ranger. In 1993, Mr. Moffit donated the human remains to the Office of the State Archaeologist. No known individual was identified. These remains have been identified as Native American based on osteological examination and the condition of the bones. Site 13FM63 has no archeological classification, and the human remains from this site cannot be affiliated with any present-day Indian tribe or group.

In 1966, human remains representing a minimum of two individuals were recovered from site 13HB25, Humboldt County, IA, by Dale Halverson when they were accidentally exposed during plowing. Around 1992, an unknown individual gave the human remains to Steve Lee, an Iowa Archeological Society member. In 1995, Mr. Lee donated the human remains to the Office of the State Archaeologist. No known individuals were identified. These remains have been identified as Native American based on osteological examination and the condition of the bones. Site 13HB25 has no archeological classification, and the human remains from this site cannot be affiliated with any present-day Indian tribe or group.

At an unknown date, human remains representing two individuals were collected from an unknown site in either Humboldt County or Wright County, IA, near Renwick, IA, by John Larson, Cleghorn, IA. At an unknown date, Mr. Larson donated the human remains to the Sanford Museum, Cherokee, IA. In 1992, the human remains were transferred to the Office of the State Archaeologist. No known individuals were identified. These remains have been identified as Native American based on osteological examination and the condition of the bones. These human remains cannot be dated or identified with an archeological context, and cannot be affiliated with any present-day Indian tribe or group.

At an unknown date, human remains representing six individuals were recovered from an unknown site near Stratford, Hamilton County, IA, by Robert Breckenridge, professor of metallurgy, Iowa State University, Ames, IA. At an unknown date, additional human remains representing a minimum of one individual were recovered by Mr. Breckenridge from an unknown site described as the “Top of Glacial Mound,” possibly in Hamilton County, IA. Mr. Breckenridge donated these human remains to the Iowa State University Archaeological Laboratory, Ames, IA. In 1994, the human remains were transferred to the Office of the State Archaeologist. No known individuals were identified. These remains have been identified as Native American based on osteological examination and the condition of the bones. These human remains cannot be dated or identified with an archeological context, and cannot be affiliated with any present-day Indian tribe or group.

At an unknown date, human remains representing three individuals were recovered from an unknown site, possibly near Stratford, in either Hamilton County or Webster County, IA, by Dr. William Baird, a physician, of Ames, IA. At an unknown date, Dr. Baird donated the human remains to the Iowa State University Archaeological Laboratory, Ames, IA. In 1994, the Iowa State University Archaeological Laboratory transferred the human remains to the Office of the State Archaeologist. No known individuals were identified. These remains have been identified as Native American based on osteological examination and the condition of the bones. These human remains cannot be dated or identified with an archeological context, and cannot be affiliated with any present-day Indian tribe or group.

In the early 1970's, human remains representing a minimum of 27 individuals were recovered from site 13HM10, Hamilton County, IA, during an excavation conducted by members of the Central Chapter of the Iowa Archeological Society. In 1986, David Carlson, one of the excavators, donated the human remains to the Office of the State Archaeologist. No known individuals were identified. These remains have been identified as Native American based on the documented association with an ancient Native American site. Site 13HM10 has Archaic (8500-800 B.C.), Woodland (800 B.C.-A.D. 1000), and Great Oasis (A.D. 900-1100) components, all broad archeological traditions that cannot be identified with any present-day Indian tribe or group.

In 1993, human remains representing one individual were recovered from site 13HR27, Harrison County, IA, during a surface survey conducted by Louis Berger and Associates, Inc., and transferred to the Office of the State Archaeologist. No known individual was identified. These remains have been identified as Native American based on osteological examination and the condition of the bones. Site 13HR27 has no archeological classification, and the human remains from this site cannot be affiliated with any present-day Indian tribe or group.

In 1993 and 1995, human remains representing a minimum of one individual were recovered from site 13HR33, Harrison County, IA, during a statewide flood damage assessment project conducted by the Office of the State Archaeologist. No known individual was identified. These remains have been identified as Native American based on burial context, osteological examination, and the condition of the bones. Site 13HR33 has no archeological classification, and the human remains from this site cannot be affiliated with any present-day Indian tribe or group.

In 1995, human remains representing two individuals were recovered from the eroding surface of site 13HR103, Harrison County, IA, by Office of the State Archaeologist personnel. No known individuals were identified. These remains have been identified as Native American based on burial context, osteological examination, and the condition of the bones. Site 13HR103 has no archeological classification, and the human remains from this site cannot be affiliated with any present-day Indian tribe or group.

Around 1975, human remains representing one individual were recovered from site 13JF9, Jefferson County, IA, by archeologist Anton Till during surface collection and test pit excavations, and reposed at the Office of the State Archaeologist. No known individual was identified. These remains have been identified as Native American based on the documented association with an ancient Native American site. Site 13JF9 has been identified as having probable Archaic (8500-800 B.C.) and Woodland (800 B.C.-A.D. 1000) components, both broad archeological traditions that cannot be identified with any present-day Indian tribe or group.

In 1984, human remains representing a minimum of ten individuals were recovered from mound site 13JF11, Jefferson County, IA, during salvage excavations conducted by the Office of the State Archaeologist. No known individuals were identified. These remains have been identified as Native American based on the documented association with an ancient Native American site. Site 13JF11 has been identified as Woodland (800 B.C.-A.D. 1000), a broad archeological tradition that cannot be identified with any present-day Indian tribe or group.

In 1932, human remains representing a minimum of six individuals were recovered from site 13JK4, a rockshelter in Jackson County, IA, during an excavation conducted by Paul Sagers, a long-time collector in the area. In 1988, after the Iowa Department of Natural Resources acquired the Sagers Collection, the human remains were transferred to the Office of the State Archaeologist. No known individuals were identified. These remains have been identified as Native American based on the documented association with an ancient Native American site. Site 13JK4 has been identified as having probable Archaic (8500-800 B.C.) to Middle Woodland (100 B.C.-A.D. 300) components, all broad archeological traditions that cannot be identified with any present-day Indian tribe or group.

In the 1930's, human remains representing 12 individuals were excavated from a series of sites in Jackson County, IA, by Paul Sagers, a long-time collector in the area. The remains of two individuals were recovered from 13JK33, a Late Woodland (A.D. 300-1000) site; the remains of one individual were recovered from 13JK61, a Middle Woodland (100 B.C.-A.D. 300) site; the remains of four individuals were recovered from 13JK62, a Late Woodland (A.D. 300-1000) site; the remains of two individuals were recovered from 13JK65, a possibly Late Woodland (A.D. 300-1000) site; and the remains of three individuals were recovered from 13JK109, a site with no archeological classification. In 1988, after the Iowa Department of Natural Resources acquired the Sagers Collection, the human remains were transferred to the Office of the State Archaeologist. No known individuals were identified. These remains have been identified as Native American based on the documented association with an ancient Native American site, or based on the circumstances of their collection, their place of origin, and apparent age. All of these remains are from sites that cannot be dated or are dated only to broad archeological traditions that cannot be identified with any present-day Indian tribe or group.

In 1993, human remains representing three individuals were recovered from site 13JK98, Jackson County, IA, during excavations conducted by Dirk Marcucci, of Louis Berger and Associates, Inc., under a State Historical Resource Development Program grant to help determine the site's eligibility for the National Register of Historic Places. Later in 1993, the human remains were transferred to the Office of the State Archaeologist. No known individuals were identified. These remains have been identified as Native American based on the documented association with an ancient Native American site. Site 13JK98 has been identified as having Late Archaic (2500-800 B.C.) and Woodland (800 B.C.-A.D. 1000) components, both broad archeological traditions that cannot be identified with any present-day Indian tribe or group.

In the 1930's, human remains representing a minimum of two individuals were recovered from site 13JN7, Jones County, IA, during excavations conducted by Paul Sagers, a long-time collector in the area. In 1988, after the Iowa Department of Natural Resources acquired the Sagers Collection, the human remains were transferred to the Office of the State Archaeologist. No known individuals were identified. These remains have been identified as Native American based on the documented association with an ancient Native American site. Site 13JN7 has been identified as possibly Late Woodland (A.D. 300-1000), a broad archeological tradition that cannot be identified with any present-day Indian tribe or group.

In 1922, human remains representing four individuals were recovered from site 13JN8, Jones County, IA, by A.D. Corcoran, Anamosa, IA. At an unknown date, the human remains were donated to the Office of the State Archaeologist by an unknown individual. No known individuals were identified. These remains have been identified as Native American based on osteological examination and the condition of the bones. Site 13JN8 has no archeological classification, and the human remains from this site cannot be affiliated with any present-day Indian tribe or group.

In 1929-1930, human remains representing one individual were recovered from site 13JN117 (also known as 13JN38), Jones County, IA, during excavations conducted by Paul Sagers, a long-time collector in the area. In 1988, after the Iowa Department of Natural Resources acquired the Sagers Collection, the human remains were transferred to the Office of the State Archaeologist. No known individual was identified. These remains have been identified as Native American based on the circumstances of their collection, their place of origin, and apparent age. Site 13JN117 has no archeological classification, and the human remains from this site cannot be affiliated with any present-day Indian tribe or group.

In 1991, human remains representing one individual were recovered from a streambed, findspot 13JP-7, Jasper County, IA, by Kaye Postma, a local resident, and turned over to the Office of the State Archaeologist. No known individual was identified. These remains have been identified as Native American based on osteological examination and apparent age. These human remains cannot be dated or identified with an archeological context, and cannot be affiliated with any present-day Indian tribe or group.

Between 1991 and 1994, human remains representing 13 individuals were recovered from site 13LA12, Louisa County, IA, during archeological excavations conducted by the University of Iowa Department of Anthropology, Iowa City, IA. Most of the remains are fragmentary and were not identified as human until laboratory examination was conducted. Once identified, the remains were turned over to the Office of the State Archaeologist. No known individuals were identified. These remains have been identified as Native American based on the documented association with an ancient Native American site. Site 13LA12 has been identified as Late Woodland (A.D. 300-1000), a broad archeological tradition that cannot be identified with any present-day Indian tribe or group.

In 1886, human remains representing a minimum of 14 individuals were recovered from site 13LA29, Toolesboro Mounds, Louisa County, IA, during excavations conducted by members of the Davenport Academy of Natural Sciences. The museum associated with this group is now known as the Putnam Museum, Davenport, IA. In 1991, the human remains were transferred to the Office of the State Archaeologist. No known individuals were identified. These remains have been identified as Native American based on the documented association with an ancient Native American site. Site 13LA29 has been identified as Middle Woodland (100 B.C.-A.D. 300), a broad archeological tradition that cannot be identified with any present-day Indian tribe or group.

In 1991, a human tooth representing one individual was recovered from site 13LA152, Louisa County, IA, during excavations conducted by the University of Iowa Department of Anthropology, Iowa City, IA. In 1995, the human remains were transferred to the Office of the State Archaeologist. No known individual was identified. These remains have been identified as Native American based on the documented association with an ancient Native American site. Site 13LA152 has been identified as having Early (800-100 B.C.) and Middle Woodland (100 B.C.-A.D. 300) components, both broad archeological traditions that cannot be identified with any present-day Indian tribe or group.

In 1986, human remains representing one individual were recovered from site 13LO419, Lyon County, IA, during an archeological survey conducted by David Benn, Southwest Missouri State University, Springfield, MO. In 1995, the human remains were transferred to Luther College, Decorah, IA. Later that year, the human remains were transferred to the Office of the State Archaeologist. No known individual was identified. These remains have been identified as Native American based on the documented association with an ancient Native American site. Site 13LO419 has been identified as possibly Great Oasis (A.D. 900-1100), a broad archeological culture that cannot be identified with any present-day Indian tribe or group.

In 1877 and 1914, human remains representing a minimum of 25 individuals were recovered from site 13MC44, Pine Creek Mounds, Muscatine County, IA, during excavations conducted in 1877 by members of the Davenport Academy of Natural Sciences and in 1914 by Truman Michelson of the Bureau of American Ethnology, Smithsonian Institution. The museum associated with the Davenport Academy of Natural Sciences is now known as the Putnam Museum, Davenport, IA. In 1991, the human remains were transferred to the Office of the State Archaeologist. No known individuals were identified. These remains have been identified as Native American based on the documented association with an ancient Native American site. Site 13MC44 has been identified as Middle Woodland (100 B.C.-A.D. 300), a broad archeological tradition that cannot be identified with any present-day Indian tribe or group.

In 1992, human remains representing one individual were recovered from findspot 13ML-10, a sandbar in the West Nishnabotna River near Henderson, Mills County, IA, by John Boruff, a local collector, and turned over to the Office of the State Archaeologist. No known individual was identified. These remains have been identified as Native American based on osteological examination and apparent age. These human remains cannot be dated or identified with an archeological context, and cannot be affiliated with any present-day Indian tribe or group.

At an unknown date, human remains representing three individuals were recovered from an unknown location in Mills County, IA, by D.D. Davis, a local collector. At an unknown date, Mr. Davis recovered additional human remains representing one individual from an unknown site in Dasher's Hollow, Mills County, IA. In 1994, Mr. Davis donated these human remains to the Office of the State Archaeologist. No known individuals were identified. These remains have been identified as Native American based on the circumstances of their collection, osteological examination, and apparent age. These human remains cannot be dated or identified with an archeological context, and cannot be affiliated with any present-day Indian tribe or group.

In 1990, a human tooth representing one individual was recovered from site 13ML42, Mills County, IA, during an excavation conducted by the Office of the State Archaeologist as part of an Iowa Humanities Board-funded archeology workshop for Iowa teachers. No known individual was identified. These remains have been identified as Native American based on the documented association with an ancient Native American site. Site 13ML42 has been identified as Middle (100 B.C-A.D. 300) to Late Woodland (A.D. 300-1000), broad archeological traditions that cannot be identified with any present-day Indian tribe or group.

In 1955, human remains representing one individual were recovered from site 13ML49, Mills County, IA, during excavations conducted by local collectors D.D. Davis, Norm Gamble, Roy Hammer, and Ross Messinger. In 1994, Mr. Davis donated the human remains to the Office of the State Archaeologist. No known individual was identified. These remains have been identified as Native American based on the documented association with an ancient Native American site. Site 13ML49 has been identified as Woodland (800 B.C.-A.D. 1000), a broad archeological tradition that cannot be identified with any present-day Indian tribe or group.

In the 1950's and 1960's, human remains representing a minimum of three individuals were recovered from site 13ML193, Tipton Mound, Mills County, IA, by equipment operators during two separate construction episodes, and were given to the landowner. In 1994, the human remains were transferred to the Office of the State Archaeologist. No known individuals were identified. These remains have been identified as Native American based on the documented association with an ancient Native American site. Site 13ML193 has been identified as Middle Woodland (100 B.C.-A.D. 300), a broad archeological tradition that cannot be identified with any present-day Indian tribe or group.

In 1991, human remains representing one individual were recovered from the eroding surface of site 13ML247, Mills County, IA, during an archeological survey conducted by the Office of the State Archaeologist. No known individual was identified. These remains have been identified as Native American based on the documented association with an ancient Native American site. Site 13ML247 has been identified as probably Woodland (800 B.C.-A.D. 1000), a broad archeological tradition that cannot be identified with any present-day Indian tribe or group.

In 1970, human remains representing six individuals were recovered from site 13ML283, Mills County, IA, during excavations conducted by a Mr. Miller, an area resident. In 1984, Dennis Miller, the excavator's brother, donated the human remains to the Office of the State Archaeologist. No known individuals were identified. These remains have been identified as Native American based on the documented association with an ancient Native American site. Site 13ML283 has been identified as probably Woodland (800 B.C.-A.D. 1000), a broad archeological tradition that cannot be identified with any present-day Indian tribe or group.

In 1957, human remains representing four individuals were recovered from site 13ML428, Mills County, IA, during excavations conducted by D.D. Davis, a local collector, and two unknown individuals. In 1992, Mr. Davis donated the human remains to the Office of the State Archaeologist. No known individuals were identified. These remains have been identified as Native American based on the documented association with an ancient Native American site. Site 13ML428 has been identified as Woodland (800 B.C.-A.D. 1000), a broad archeological tradition that cannot be identified with any present-day Indian tribe or group.

In the 1980's, human remains representing one individual were recovered from an unknown location in Monona County, IA, by an unknown individual, and given to Paul Williams, a local collector. In 1984, Mr. Williams gave the human remains to Office of the State Archaeologist personnel during an archeological workshop. No known individual was identified. These remains have been identified as Native American based on osteological examination and the condition of the bones. These human remains cannot be dated or identified with an archeological context, and cannot be affiliated with any present-day Indian tribe or group.

In 1993, human remains representing one individual were recovered from findspot 13PA-2, a sandbar along the Nishnabotna River in Page County, IA, by Dennis Miller, a local collector, and turned over to the Office of the State Archaeologist. No known individual was identified. These remains have been identified as Native American based on osteological examination and apparent age of the bone. These human remains cannot be dated or identified with an archeological context, and cannot be affiliated with any present-day Indian tribe or group.

In 1963, human remains representing a minimum of 15 individuals were recovered from site 13PK38, Polk County, IA, during excavations by Jack Musgrove, of the State Historical Society of Iowa, Des Moines, IA, after construction had accidentally uncovered the burials. In the 1980's and 1990's, the State Historical Society of Iowa transferred the human remains to the Office of the State Archaeologist. No known individuals were identified. These remains have been identified as Native American based on the documented association with an ancient Native American site. Site 13PK38 has been identified as Great Oasis (A.D. 900-1100), a broad archeological culture that cannot be identified with any present-day Indian tribe or group.

In 1992, human remains representing a minimum of 12 individuals were recovered from site 13PK63, Polk County, IA, by the West Des Moines Police Department when burials were exposed and destroyed during land development activities. The human remains were transferred to the Office of the State Archaeologist when it was determined the site was not a crime scene. No known individuals were identified. These remains have been identified as Native American based on the documented association with an ancient Native American site. Site 13PK63 has been identified as Great Oasis (A.D. 900-1100), a broad archeological culture that cannot be identified with any present-day Indian tribe or group.

In 1991, human remains representing a minimum of one individual were recovered from site 13PK496, Polk County, IA, during an excavation conducted by Dan Higginbottom, a University of Minnesota graduate student conducting archeological research on the South Skunk River, IA. In 1992, Mr. Higginbottom transferred the human remains to the Office of the State Archaeologist. No known individual was identified. These remains have been identified as Native American based on the documented association with an ancient Native American site. Site 13PK496 has been identified as possibly Woodland (800 B.C.-A.D. 1000) or Great Oasis (A.D. 900-1100), broad archeological traditions that cannot be identified with any present-day Indian tribe or group.

Around 1970, human remains representing one individual were recovered from an unknown location along a river bank east of Emmetsburg, Palo Alto County, IA, by local collectors Tim Miller, Tim Kulow, and Dean Lammers. In 1970, they donated the human remains to the University Museum, University of Northern Iowa, Cedar Falls, IA. In 1993, the human remains were transferred to the Office of the State Archaeologist. No known individual was identified. These remains have been identified as Native American based on osteological examination and apparent age of the bone. These human remains cannot be dated or identified with an archeological context, and cannot be affiliated with any present-day Indian tribe or group.

In 1967, human remains representing a minimum of two individuals were recovered from site 13PM25, Plymouth County, IA, during an archeological excavation conducted by the University of Iowa Department of Anthropology, Iowa City, IA. No known individuals were identified. These remains have been identified as Native American based on the documented association with an ancient Native American site. Site 13PM25 has been identified as Great Oasis (A.D. 900-1100), a broad archeological culture that cannot be identified with any present-day Indian tribe or group.

In the 1960's, human remains representing two individuals were recovered from site 13PW56, Pottawattamie County, IA, by Burnel Bruning, the landowner, when they were accidentally uncovered during plowing. In 1989, Mr. Bruning donated the human remains to the Office of the State Archaeologist. No known individuals were identified. These remains have been identified as Native American based on the documented association with an ancient Native American site. Site 13PW56 has been identified as possibly Late Archaic (2500-800 B.C.), a broad archeological tradition that cannot be identified with any present-day Indian tribe or group.

In 1995, human remains representing one individual were recovered from findspot 13SR-1, a sandbar in Squaw Creek, north of Ames, Story County, IA, by Jimmie Thompson, a local collector. Later that year, Mr. Thompson transferred the human remains to the Office of the State Archaeologist. No known individual was identified. These remains have been identified as Native American based on osteological examination and apparent age of the bone. These human remains cannot be dated or identified with an archeological context, and cannot be affiliated with any present-day Indian tribe or group.

In the late 1800's, human remains representing one individual were recovered from an unknown mound, near Princeton, Scott County, IA, by an unknown individual. Around 1889, W.P. Hall, a local collector, donated the human remains to the Putnam Museum, Davenport, IA. In 1995, the human remains were transferred to the Office of the State Archaeologist. No known individual was identified. These remains have been identified as Native American based on the documented association with an ancient Native American site. Although the exact site is unknown, almost all mounds in Iowa are believed to date to the Woodland Period (800 B.C.-A.D. 1000), a broad archeological tradition that cannot be identified with any present-day Indian tribe or group.

In 1877, human remains representing six individuals were recovered from site 13ST82, Scott County, IA, during excavations conducted by Rev. J. Gass and other members of the Davenport Academy of Natural Sciences. The museum associated with this group is now known as the Putnam Museum, Davenport, IA. In 1993 and 1995, the human remains were transferred to the Office of the State Archaeologist. No known individuals were identified. These remains have been identified as Native American based on the documented association with an ancient Native American site. Site 13ST82 has been identified as Middle Woodland (100 B.C.-A.D. 300), a broad archeological tradition that cannot be identified with any present-day Indian tribe or group.

In 1944, very fragmented human remains representing approximately 24 individuals were recovered from site 13ST116, Scott County, IA, during an archeological excavation conducted by John Bailey, director of the Davenport Public Museum, now known as the Putnam Museum. The fragmentary nature of the remains makes it difficult to provide an accurate count of the number of individuals. In 1995, the Putnam Museum transferred the human remains to the Office of the State Archaeologist. No known individuals were identified. These remains have been identified as Native American based on the documented association with an ancient Native American site. Site 13ST116 has been identified as probably late Middle (100 B.C.-A.D. 300) to early Late Woodland (A.D. 300-1000), broad archeological traditions that cannot be identified with any present-day Indian tribe or group.

Around 1982, human remains representing one individual were recovered from an unknown location in Webster County, IA, by Tom Mercer, a local collector. In 1994, the human remains were transferred to the Office of the State Archaeologist. No known individual was identified. These remains have been identified as Native American based on osteological examination and apparent age. These human remains cannot be dated or identified with an archeological context, and cannot be affiliated with any present-day Indian tribe or group.

In 1969, human remains representing a minimum of three individuals were recovered from site 13WB6, Webster County, IA, by Tom Martin, a Cedar Falls teacher, and his students. At an unknown date, Mr. Martin donated the human remains to the University Museum, University of Northern Iowa, Cedar Falls, IA. In 1993, the University Museum transferred the human remains to the Office of the State Archaeologist. No known individuals were identified. These remains have been identified as Native American based on the documented association with an ancient Native American site. Site 13WB6 has been identified as Late Woodland (A.D. 300-1000) or Great Oasis (A.D. 900-1100), broad archeological traditions that cannot be identified with any present-day Indian tribe or group.

In 1905, human remains representing six individuals were recovered from an unknown site in the Springdale area of Sioux City, Woodbury County, IA, when they were exposed during clay removal by tile factory workers. An unnamed local resident assisted with the excavation of the burials, and turned them over to the Sioux City Academy of Science and Letters. The academy's collections became part of the Sioux City Public Museum. In 1994, the human remains were transferred to the Office of the State Archaeologist. No known individuals were identified. These remains have been identified as Native American based on the circumstances of their collection, their place of origin, osteological examination, and apparent age. These human remains cannot be dated or identified with an archeological context, and cannot be affiliated with any present-day Indian tribe or group.

At an unknown date, human remains representing one individual were recovered from the eroding surface of site 13WD27, Woodbury County, IA, by an unknown individual who turned them over to the Sioux City Police Department. In 1993, the human remains were transferred to the Office of the State Archaeologist. No known individual was identified. These remains have been identified as Native American based on their place of origin and apparent age. These human remains cannot be dated or identified with an archeological context, and cannot be affiliated with any present-day Indian tribe or group.

In 1990, human remains representing one individual were recovered from the eroding surface of site 13WD78, Woodbury County, IA, by Woodbury County Conservation Board and Office of the State Archaeologist personnel. The human remains were taken to the Office of the State Archaeologist. No known individual was identified. These remains have been identified as Native American based on their place of origin and apparent age of the remains. Site 13WD78 has no archeological classification, and these human remains cannot be affiliated with any present-day Indian tribe or group.

In the early 1950's, human remains representing two individuals were recovered from site 13WH35, Winneshiek County, IA, by Dale Henning. At an unknown date, the human remains were donated to Effigy Mounds National Monument, a unit of the National Park Service. In 1986, the human remains were transferred to the Office of the State Archaeologist as site 13WH35 is not located on Federal property. In the 1960's, additional human remains representing one individual were recovered from site 13WH35 by Gavin Sampson, a local collector. At an unknown date, Mr. Sampson donated the human remains to Luther College, Decorah, IA. In 1987, the human remains were transferred to the Office of the State Archaeologist. No known individuals were identified. These remains have been identified as Native American based on the documented association with an ancient Native American site. Site 13WH35 has been identified as having Archaic (8500-800 B.C.), Woodland (800 B.C.-A.D. 1000), and Oneota (A.D. 1200-1700) components. The human remains of at least one of the individuals are from the Woodland component, a broad archeological culture that cannot be identified with any present-day Indian tribe or group, and the remaining human remains cannot be dated or affiliated with any present-day Indian tribe or group.

At an unknown date, human remains representing three individuals were recovered from site 13WH79, a rock shelter, in Winneshiek County, IA, by Gavin Sampson, a local collector. At an unknown date, Mr. Sampson donated the human remains to Luther College, Decorah, IA. In 1995, the human remains were transferred to the Office of the State Archaeologist. No known individuals were identified. These remains have been identified as Native American based on the documented association with an ancient Native American site. Site 13WH79 has no archeological classification, and these human remains cannot be affiliated with any present-day Indian tribe or group.

At an unknown date, human remains representing two individuals were recovered from an unknown site or sites, probably in Iowa, by an unknown individual. More than 30 years ago, an unknown individual donated the human remains to the Ottumwa High School, Ottumwa, Wapello County, IA. In 1990, the human remains were transferred to the Office of the State Archaeologist. No known individuals were identified. These remains have been identified as Native American based on osteological examination and apparent age of the bone. These human remains cannot be dated or identified with an archeological context, and cannot be affiliated with any present-day Indian tribe or group.

At an unknown date, human remains representing one individual were recovered from an unknown site, probably in Iowa, by an unknown individual. At an unknown date, the human remains were donated to the Conger House Museum, Washington, Washington County, IA. In 1992, the human remains were transferred to the Office of the State Archaeologist. No known individual was identified. These remains have been identified as Native American based on osteological examination and the condition of the bones. These human remains cannot be dated or identified with an archeological context, and cannot be affiliated with any present-day Indian tribe or group.

At an unknown date, human remains representing one individual were recovered from an unknown site in Iowa by John Morrie, a collector from Fort Madison, Lee County, IA. In 1994, the human remains were transferred to the Office of the State Archaeologist by the Morrie family. Provenience information was limited to a note accompanying the human remains indicating that they came from “Dickson,” IA. There is a town named Dixon in Scott County, IA, but no town spelled Dickson on the Iowa map. No known individual was identified. These remains have been identified as Native American based on osteological examination and the apparent age of the bones. These human remains cannot be dated or identified with an archeological context, and cannot be affiliated with any present-day Indian tribe or group.

At an unknown date, human remains representing a minimum of seven individuals were recovered from an unknown site, probably in Iowa, possibly by Marrion Boots. In 1933, the human remains were accessioned by the State Historical Society of Iowa, recording only that they were from Marrion Boots, Stuart, Guthrie County, IA. In 1988, the human remains were transferred to the Office of the State Archaeologist. No known individuals were identified. These remains have been identified as Native American based on the possible association with Native American artifacts, osteological examination, and the condition of the bones. These human remains cannot be dated or identified with an archeological context, and cannot be affiliated with any present-day Indian tribe or group.

In the late 1800's and early 1900's, human remains representing three individuals were recovered from unknown locations, probably in Iowa, by Richard Herrmann, a collector from the Dubuque, IA, area. At an unknown date, Mr. Herrmann donated the human remains to the Ham House, owned by the Dubuque County Historical Society, Dubuque, IA. In 1986, the human remains were transferred to the Office of the State Archaeologist. No known individuals were identified. These remains have been identified as Native American based on the circumstances of their collection, their place of origin, osteological examination, and apparent age of the bones. These human remains cannot be dated or identified with an archeological context, and cannot be affiliated with any present-day Indian tribe or group.

In the 1920's or 1930's, human remains representing three individuals were recovered from an unknown location, probably in Iowa, by Paul Sagers, a local collector from Jackson County, IA. In 1988, after the Iowa Department of Natural Resources acquired the Sagers Collection, the human remains were turned over to the Iowa Office of the State Archaeologist. No known individuals were identified. These remains have been identified as Native American based on osteological examination and the condition of the bones. These human remains cannot be dated or identified with an archeological context, and cannot be affiliated with any present-day Indian tribe or group.

Based on the above-mentioned information, officials of the Office of the State Archaeologist, University of Iowa, have determined that, pursuant to 43 CFR 10.2 (d)(1), the human remains listed above represent the physical remains of a minimum of 339 individuals of Native American ancestry. Additionally, and in accordance with the recommendations of the Native American Graves Protection and Repatriation Review Committee, officials of the Office of the State Archaeologist, University of Iowa, have determined that, pursuant to 43 CFR 10.2 (e), there is no relationship of shared group identity that can be reasonably traced between these Native American human remains and any present-day Indian tribe or group, and that the disposition of these Native American human remains will follow Code of Iowa 263B. 8.

This notice has been sent to officials of the Iowa Tribe of Kansas and Nebraska; the Iowa Tribe of Oklahoma; the Sac and Fox Tribe of the Mississippi in Iowa; the Sac and Fox Nation of Missouri in Kansas and Nebraska; the Sac and Fox Nation of Oklahoma; the Ho-Chunk Nation of Wisconsin; the Omaha Tribe of Nebraska; the Santee Sioux Tribe of the Santee Reservation of Nebraska; the Sisseton-Wahpeton Sioux Tribe of the Lake Traverse Reservation, South Dakota; the Yankton Sioux Tribe of South Dakota; the Winnebago Tribe of Nebraska; the Otoe-Missouria Tribe of Indians, Oklahoma; the Ponca Tribe of Nebraska; the Ponca Tribe of Indians of Oklahoma; the Three Affiliated Tribes of the Fort Berthold Reservation, North Dakota; the Pawnee Nation of Oklahoma; the Lower Sioux Indian Community of Minnesota Mdewakanton Sioux Indians of the Lower Sioux; the Flandreau Santee Sioux Tribe of South Dakota; the Prairie Band Potawatomi Indians, Kansas; the Citizen Potawatomi Nation, Oklahoma; and the non-Federally recognized Mendota Mdewakanton Dakota Community. Representatives of any other Indian tribe that believes itself to be culturally affiliated with these human remains should contact Shirley Schermer, Burials Program Director, Office of the State Archaeologist, 700 Clinton Street Building, University of Iowa, Iowa City, IA 52242, telephone (319) 384-0740, before January 26, 2001. Disposition of the human remains may begin after that date if no additional claimants come forward.

Dated: December 11, 2000.
John Robbins,
Assistant Director, Cultural Resources Stewardship and Partnerships.

[FR Doc. 00-32920 Filed 12-26-00; 8:45 am]

BILLING CODE 4310-70-F